DEPARTMENT OF VETERANS AFFAIRS

Advisory Committee on Cemeteries and Memorials; Notice of Meeting

The Department of Veterans Affairs (VA) gives notice under the Federal Advisory Committee Act, 5 U.S.C., App. 2, that the Advisory Committee on Cemeteries and Memorials will meet May 9-10, 2017, at 1100 First Street NE., Conference Room 104, Washington, DC 20002. On May 9th and May 10th, the meeting will begin each day at 8:30 a.m. and conclude at approximately 5:00 p.m. The meeting is open to the public.

The purpose of the Committee is to advise the Secretary of Veterans Affairs on the administration of national cemeteries, soldiers' lots and plots, the selection of new national cemetery sites, the erection of appropriate memorials, and the adequacy of Federal burial benefits.

On May 9, 2017, the Committee will receive Ethics training and updates on National Cemetery Administration issues. On May 10, 2017, the Committee will discuss prior recommendations and new charges from the Interim Under Secretary for Memorial Affairs. The Committee will also discuss future meeting sites and potential agenda topics at future meetings.

Time will be allocated for receiving oral presentations from the public each day. Any member of the public wishing to attend the meeting should contact Ms. Christine Hamilton, Designated Federal Officer, at (202) 461-5680. The Committee will also accept written comments. Comments may be transmitted electronically to the Committee at Christine.hamilton1@va.gov or mailed to the National Cemetery Administration (40A1), 810 Vermont Avenue NW., Washington, DC 20420. In the public's communications with the Committee, the writers must identify themselves and state the organizations, associations, or persons they represent.

Because the meeting is being held in a government building, a photo I.D. must be presented at the security desk as part of the clearance process. Due to an increase in security protocols, and in order to prevent delays in clearance processing, you should allow an additional 15 minutes before the meeting begins.

Dated: April 17, 2017.
Jelessa M. Burney,
Federal Advisory Committee Management Officer.

[FR Doc. 2017-08021 Filed 4-19-17; 8:45 am]

BILLING CODE 8320-01-P